SMALL BUSINESS ADMINISTRATION

Senior Executive Service: Performance Review Board Members

AGENCY: U. S. Small Business Administration.

ACTION: Notice of members for the FY 2016 Performance Review Board.

SUMMARY: Title 5 U.S.C. 4314(c) (4) requires each agency to publish notification of the appointment of individuals who may serve as members of that Agency's Performance Review Board (PRB). The following individuals have been designated to serve on the FY 2016 Performance Review Board for the U.S. Small Business Administration.

Members:

1. Delorice Ford (Chair), Assistant Administrator, Office of Hearings and Appeals

2. Eugene Cornelius Jr., Deputy Associate Administrator, Office of Field Operations

3. Nick Maduros, Chief of Staff, Office of the Administrator

4. Robert Steiner, District Director (Illinois District Office), Office of Field Operations

5. Jackie Robinson-Burnette, Deputy Associate Administrator, Office of Government Contracting and Business Development

6. Linda Rusche, Director of Credit Risk Management, Office of Capital Access

7. Mark Walsh, Associate Administrator, Office of Investment and Innovation

Alternate PRB:

1. Daniel Krupnick, Associate Administrator, Office of Congressional and Legislative Affairs

2. John Miller, Deputy Associate Administrator, Office of Capital Access

3. Victor Parker, District Director (LA District Office), Office of Field Operations

Maria Contreras-Sweet,
Administrator.

[FR Doc. 2016-28824 Filed 11-30-16; 8:45 am]

BILLING CODE 8025-01-P